FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

ABC Trucking and Logistics L.L.C. (OFF), 3080 McCall Drive, Suite 1, Atlanta, GA 30340, Officers: Anthony C. Ogbodo, CEO (Qualifying Individual), Cyril O. Nwanjoku, Member, Application Type: New OFF License

Alexis Cruz dba Resources International (NVO & OFF), 330 Haven Avenue, Ste. 5F, New York, NY 10033 (Officer), Alexis Cruz, Sole Proprietor (Qualifying Individual), Application Type: New NVO & OFF License

ARCA International, Inc. (NVO & OFF), 2507 Investor's Row, 200, Orlando, FL 32837, Officers: Richard J. Clarke, Secretary (Qualifying Individual), Lawrence R. Lammers, President/CEO, Application Type: License Transfer

Atlantic Cargo Logistics LLC (NVO), 127 East New York Avenue, #1, Deland, FL 32720, Officers: Dietmar Lutte, Managing Member (Qualifying Individual), Susan M. Lutte, Member Application Type: New NVO License

C.H. Robinson International, Inc. dba Christal Lines (NVO & OFF), 14701 Charlson Road, #450, Eden Prairie, MN 55347, Officers: Kenneth D. Sine, Vice President Ocean Services (Qualifying Individual) Scott Satterlee, President, Application Type: QI change

Carrytech LLC (NVO & OFF), 770 The City Drive South, #8450, Orange, CA 92868, Officer: Sang Yul Lee, Member/Manager (Qualifying Individual), Application Type: New NVO & OFF License

Deep Ocean International Logistics LLC (NVO), 9814 Goldenglade Drive, Houston, TX 77064, Officer: Sandra Lesage, Member/Manager (Qualifying Individual), Application Type: New NVO License

Global Expeditors, LLC (NVO & OFF), 4 Englehard Avenue, Avenel, NJ 07001, Officer: Maher Doughan, Member (Qualifying Individual), Application Type: New NVO & OFF License

Global Link Logistics, Inc. (NVO), 1990 Lakeside Parkway, Suite 300, Tucker, GA 30084, Officers: Brian Pinkett, Vice President Operations & IT (Qualifying Individual), Raymond Winters, Jr., President/Director, Application Type: QI Change

Global Shipping & Freight International, Inc. (NVO & OFF), 4815 E. Busch Blvd., #207, Tampa, FL 33617, Officers: Wissam Bahloul, President (Qualifying Individual), Zuhdi Mansour, Vice President, Application Type: Add OFF Service

Jetta Cargo Services, Inc. (NVO), 5422 W. Rosecrans Avenue, Hawthorne, CA 90250, Officers: Ping aka Johnny Chan, Secretary/Treasurer (Qualifying Individual), Shengwu aka John Chen, President, Application Type: License Transfer

JP Express Shipping, Corp. (NVO), 1873 Bathgate Avenue, Bronx, NY 10457, Officer: Felipe Vasquez, President/Secretary/Treasurer (Qualifying Individual), Application Type: New NVO License

“KazTransLimited” Limited Partnership (NVO), 14 Tslolkovsky Street, Shymkent 160050 Kuzakhstan, Officers: Petr Ugay, General Director (Qualifying Individual), Anastasiya Pak, Supervising Director, Application Type: New NVO License

Madkem Logistics Inc. (NVO & OFF), 355 Jefferson Avenue, Ground Floor, Brooklyn, NY 11221, Officers: Thomas Salako, Vice President (Qualifying Individual), Ade Ranti, President, Application Type: New NVO & OFF License

Matson Logistics Warehousing, Inc. (NVO & OFF), 1855 Gateway Blvd., #250, Concord, CA 94520, Officers: Steven T. Rubin, Vice President (Qualifying Individual), Mark Minor, Secretary, Application Type: Name Change

Ocean Star International, Inc. dba International Van Lines (NVO & OFF), 10880 Wiles Road, Coral Springs, FL 33076, Officer: Joshua Morales, President (Qualifying Individual), Application Type: Trade Name Change

OES Logistics, Inc. (NVO & OFF), 10900 E. 183rd Street, #130, Cerritos, CA 90703, Officer: Chiae Leem, President/Secretary/Treasurer (Qualifying Individual), Application Type: New NVO & OFF License

Overseas-Forwarding Int. Schiffahrts Speditionsgesellschaft MBH dba Overseas Shipping and Transport LLC (NVO), Grimm 8, D-20445, Hamburg, D-204457, Germany, Officers: Gabriele Awads, Vice President—American Affairs (Qualifying Individual), Philipp Stachow, Owner/Managing Member, Application Type: New NVO & OFF License

Premiere Logistics, Inc (NVO & OFF), 2613 Manhattan Beach Blvd., #100, Redondo Beach, CA 90278, Officers: Richard K. Lowery, Chief Executive Officer (Qualifying Individual), Michelle Marckwordt, Chief Financial Officer, Application Type: New NVO & OFF License

Rafael Castillo dba Castle Forwarding (OFF), 1100 S. Castlegate Avenue, Compton, CA 90221, Officer: Rafael Castillo, Sole Proprietor (Qualifying Individual), Application Type: New OFF License

Ray-Mont Logistics Corp. (OFF), 13619 E. 28th Avenue, Spokane Valley, WA 99216, Officers: Teri M. Zimmerman, Treasurer (Qualifying Individual), Charles Raymond, Director/President, Application Type: New OFF License

Richard J. Gonerko dba Zonn Agency (OFF), 1335 Oakhurst Avenue, Los Altos, CA 94024, Officer: Richard J. Gonerko, Sole Proprietor (Qualifying Individual), Application Type: New OFF License

Seastar International Group Inc. (OFF), 1170 US Highway 22, #105, Bridgewater, NJ 08807, Officers: Ying Zhao, President (Qualifying Individual), Wei Liu, Secretary, Application Type: License Transfer

Sterling Relocation Americas Inc. (OFF), 187 Danbury Road, Wilton, CT 06897, Officers: Sharon Phipps, Vice President Transportation Services (Qualifying Individual), Rupert Morley, CEO Application Type: QI Change

Swift International Logistics, Inc. (NVO), 3 Powell Drive, West Orange, NJ 07052, Officer: Michelle Dachot, President/Secretary/Treasurer (Qualifying Individual), Application Type: New NVO License

T & B Master Logistics, Inc. (NVO & OFF), 1490 Beachey Place, Carson, CA 90746, Officers: Jun Hyun Park, President/CEO/Treasurer/CFO/Secretary (Qualifying Individual), Hyeon Sang Shin, Vice President, Application Type: QI Change

Transmar, Inc (NVO & OFF), 6132 NW 74th Avenue, Miami, FL 33166, Officers: Hugo A. Villanueva, President (Qualifying Individual), Sandra Villanueva, Vice President, Application Type: New NVO & OFF License

U.S. Cargo International Inc. (OFF), 2157 N.W. 79th Avenue, Miami, FL 33122, Officers: Daniel Gamas, President/Secretary/Director (Qualifying Individual), Joaquin Gamas, Vice President, Application Type: New OFF License

Dated: June 8, 2012.
Karen V. Gregory,
Secretary.

[FR Doc. 2012-14442 Filed 6-12-12; 8:45 am]

BILLING CODE 6730-01-P